DEPARTMENT OF JUSTICE

Antitrust Division

Notice Pursuant to the National Cooperative Research and Production Act of 1993—Advancement of In Situ Bioremediation Technologies

Notice is hereby given that, on February 14, 2000, pursuant to Section 6(a) of the National Cooperative Research and Production Act of 1993, 15 U.S.C. 4301 et seq. (“the Act”), Advancement of In Situ Bioremediation Technologies has filed written notifications simultaneously with the Attorney General and the Federal Trade Commission disclosing changes in its membership status. The notifications were filed for the purpose of extending the Act's provisions limiting the recovery of antitrust plaintiffs to actual damages under specified circumstances. Specifically, ICI, Americas, Inc., Wilmington, DE and Beak International, Inc. which since has been acquired by GeoSyntec Consultants, Inc., Boca Raton, FL have been added as parties to this venture. Monsanto Company, St. Louis, MO has been dropped as a party to this venture. Also, Ciba Geigy Corporation, Ardsley, NY has changed its name to Ciba Specialty Chemicals, Toms River, NJ.

No other changes have been made in either the membership or planned activity of the group research project. Membership in this group research project remains open, and Advancement of In Situ Bioremediation Technologies intends to file additional written notification disclosing all changes in membership.

On December 13, 1994, Advancement of In Situ Bioremediation Technologies filed its original notification pursuant to Section 6(a) of the Act. The Department of Justice published a notice in the Federal Register pursuant to Section 6(b) of the Act on February 7, 1995 (60 FR 7214).

Constance K. Robinson,
Director of Operations, Antitrust Division.

[FR Doc. 00-20891 Filed 8-16-00; 8:45 am]

BILLING CODE 4410-11-M